DEPARTMENT OF AGRICULTURE

Food Safety and Inspection Service

[Docket No. FSIS-2013-0002]

International Standard-Setting Activities

AGENCY: Office of Food Safety, USDA.

ACTION: Notice.

SUMMARY: This notice informs the public of the sanitary and phytosanitary standard-setting activities of the Codex Alimentarius Commission (Codex), in accordance with section 491 of the Trade Agreements Act of 1979, as amended, and the Uruguay Round Agreements Act, Public Law 103-465, 108 Stat. 4809. This notice also provides a list of other standard-setting activities of Codex, including commodity standards, guidelines, codes of practice, and revised texts. This notice, which covers the time periods from June 1, 2012, to May 31, 2013, and June 1, 2013, to May 31, 2014, seeks comments on standards under consideration and recommendations for new standards.

ADDRESSES: FSIS invites interested persons to submit comments on this notice. Comments may be submitted by one of the following methods:

• Federal eRulemaking Portal: This Web site provides the ability to type short comments directly into the comment field on this Web page or attach a file for lengthier comments. Go to http://www.regulations.gov. Follow the on-line instructions at that site for submitting comments.

• Mail, including CD-ROMs, etc.: Send to U.S. Department of Agriculture (USDA), FSIS, OPPD, RIMS, Docket Clearance Unit, Patriots Plaza 3, 1400 Independence Avenue SW., Mailstop 3782, Room 8-163B, Washington, DC 20250-3700.

• Hand- or courier-delivered submittals: Deliver to Patriots Plaza 3, 355 E Street SW., Room 8-163B, Washington, DC 20024-3221.

Instructions: All items submitted by mail or electronic mail must include the Agency name and docket number FSIS-2013-0002. Comments received in response to this docket will be made available for public inspection and posted without change, including any personal information, to http://www.regulations.gov.

Docket: For access to background documents or comments received, go to the FSIS Docket Room at Patriots Plaza, 355 E Street SW., Room 8-164, Washington, DC 20024-3221 between 8:00 a.m. and 4:30 p.m., Monday through Friday.

Please state that your comments refer to Codex and, if your comments relate to specific Codex committees, please identify those committees in your comments and submit a copy of your comments to the delegate from that particular committee.

FOR FURTHER INFORMATION CONTACT: Mary Frances Lowe, United States Manager for Codex, U.S. Department of Agriculture, Office of Food Safety, Room 4861, South Agriculture Building, 1400 Independence Avenue SW., Washington, DC 20250-3700; Telephone: (202) 205-7760; Fax: (202) 720-3157; Email: USCodex@fsis.usda.gov.

For information pertaining to particular committees, the delegate of that committee may be contacted. (A complete list of U.S. delegates and alternate delegates can be found in Attachment 2 of this notice.) Documents pertaining to Codex and specific committee agendas are accessible via the World Wide Web at http://www.codexalimentarius.org/meetings-reports/en/. The U.S. Codex Office also maintains a Web site at http://www.fsis.usda.gov/Regulations_&_Policies/Codex_Alimentarius/index.asp.

SUPPLEMENTARY INFORMATION:

Background

The World Trade Organization (WTO) was established on January 1, 1995, as the common international institutional framework for the conduct of trade relations among its members in matters related to the Uruguay Round Trade Agreements. The WTO is the successor organization to the General Agreement on Tariffs and Trade (GATT). U.S. membership in the WTO was approved and the Uruguay Round Agreements Act was signed into law by the President on December 8, 1994. The Uruguay Round Agreements became effective, with respect to the United States, on January 1, 1995. Pursuant to section 491 of the Trade Agreements Act of 1979, as amended, the President is required to designate an agency to be “responsible for informing the public of the sanitary and phytosanitary (SPS) standard-setting activities of each international standard-setting organization.” The main organizations are Codex, the World Organisation for Animal Health, and the International Plant Protection Convention. The President, pursuant to Proclamation No. 6780 of March 23, 1995 (60 FR 15845), designated the U.S. Department of Agriculture as the agency responsible for informing the public of the SPS standard-setting activities of each international standard-setting organization. The Secretary of Agriculture has delegated to the Office of Food Safety the responsibility to inform the public of the SPS standard-setting activities of Codex. The Office of Food Safety has, in turn, assigned the responsibility for informing the public of the SPS standard-setting activities of Codex to the U.S. Codex Office.

Codex was created in 1963 by two United Nations organizations, the Food and Agriculture Organization (FAO) and the World Health Organization (WHO). Codex is the principal international organization for establishing standards for food. Through adoption of food standards, codes of practice, and other guidelines developed by its committees and by promoting their adoption and implementation by governments, Codex seeks to protect the health of consumers, ensure fair practices in the food trade, and promote coordination of food standards work undertaken by international governmental and nongovernmental organizations. In the United States, U.S. Codex activities are managed and carried out by the United States Department of Agriculture (USDA); the Food and Drug Administration (FDA), Department of Health and Human Services (HHS); the National Oceanic and Atmospheric Administration (NOAA), Department of Commerce (DOC); and the Environmental Protection Agency (EPA).

As the agency responsible for informing the public of the SPS standard-setting activities of Codex, the Office of Food Safety publishes this notice in the Federal Register annually. Attachment 1 (Sanitary and Phytosanitary Activities of Codex) sets forth the following information:

1. The SPS standards under consideration or planned for consideration; and

2. For each SPS standard specified:

a. A description of the consideration or planned consideration of the standard;

b. Whether the United States is participating or plans to participate in the consideration of the standard;

c. The agenda for United States participation, if any; and

d. The agency responsible for representing the United States with respect to the standard.

To Obtain Copies of the Standards Listed In Attachment 1, Please Contact the Codex Delegate or the U.S. Codex Office.

This notice also solicits public comment on standards that are currently under consideration or planned for consideration and recommendations for new standards. The delegate, in conjunction with the responsible agency, will take the comments received into account in participating in the consideration of the standards and in proposing matters to be considered by Codex.

The United States delegate will facilitate public participation in the United States Government's activities relating to Codex Alimentarius. The United States delegate will maintain a list of individuals, groups, and organizations that have expressed an interest in the activities of the Codex committees and will disseminate information regarding United States delegation activities to interested parties. This information will include the status of each agenda item; the United States Government's position or preliminary position on the agenda items; and the time and place of planning meetings and debriefing meetings following Codex committee sessions. In addition, the U.S. Codex Office makes much of the same information available through its Web page, http://www.fsis.usda.gov/Regulations_&_Policies/Codex_Alimentarius/index.asp. If you would like to access or receive information about specific committees, please visit the Web page or notify the appropriate U.S. delegate or the U.S. Codex Office, Room 4861, South Agriculture Building, 1400 Independence Avenue SW., Washington, DC 20250-3700 (uscodex@fsis.usda.gov).

The information provided in Attachment 1 describes the status of Codex standard-setting activities by the Codex Committees for the time periods from June 1, 2012, to May 31, 2013, and June 1, 2013, to May 31, 2014. Attachment 2 provides a list of U.S. Codex Officials (including U.S. delegates and alternate delegates). A list of forthcoming Codex sessions may be found at: http://www.codexalimentarius.org/meetings-reports/en/.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/. Options range from recalls to export information to regulations, directives, and notices. Customers can add or delete subscriptions themselves, and have the option to password protect their accounts.

Done at Washington, DC, on June 17, 2013.
Mary Frances Lowe,
U.S. Manager for Codex Alimentarius.

Attachment 1

Sanitary and Phytosanitary Activities of Codex

Codex Alimentarius Commission and Executive Committee

The Codex Alimentarius Commission will hold its Thirty Sixth Session July 1-5, 2013, in Rome, Italy. At that time, it will consider standards, codes of practice, and related matters forwarded to the Commission by the general subject committees, commodity committees, and ad hoc Task Forces for adoption as Codex standards and guidance. The Commission will also consider the implementation status of the Codex Strategic Plan, the management of the Trust Fund for the Participation of Developing Countries and Countries in Transition in the Work of the Codex Alimentarius, as well as financial and budgetary issues.

Prior to the Commission meeting, the Executive Committee will meet at its Sixty-eighth Session on June 25-28, 2013. It is composed of the chairperson; vice-chairpersons; seven members elected from the Commission from each of the following geographic regions: Africa, Asia, Europe, Latin America and the Caribbean, Near East, North America, and South-West Pacific; and regional coordinators from the six regional committees. The United States is the elected representative from North America. The Executive Committee will conduct a critical review of the elaboration of Codex standards; consider applications from international non-governmental organizations for observer status in Codex; consider the Codex Strategic Plan and the capacity of the Secretariat; review matters arising from reports of Codex Committees and proposals for new work; and review the Food and Agriculture Organization and the World Health Organisation (FAO/WHO) Trust Fund for Enhanced Participation in Codex.

Responsible Agency: USDA/FSIS.

U.S. Participation: Yes.

Codex Committee on Residues of Veterinary Drugs in Foods

The Codex Committee on Residues of Veterinary Drugs in Foods (CCRVDF) determines priorities for the consideration of residues of veterinary drugs in foods and recommends Maximum Residue Limits (MRLs) for veterinary drugs. The Committee also develops codes of practice, as may be required, and considers methods of sampling and analysis for the determination of veterinary drug residues in food. A veterinary drug is defined as any substance applied or administered to any food producing animal, such as meat or milk producing animals, poultry, fish or bees, whether used for therapeutic, prophylactic or diagnostic purposes, or for modification of physiological functions or behavior.

A Codex Maximum Residue Limit (MRL) for Residues of Veterinary Drugs is the maximum concentration of residue resulting from the use of a veterinary drug (expressed in mg/kg or ug/kg on a fresh weight basis) that is recommended by the Codex Alimentarius Commission to be permitted or recognized as acceptable in or on a food. Residues of a veterinary drug include the parent compounds or their metabolites in any edible portion of the animal product, and include residues of associated impurities of the veterinary drug concerned. An MRL is based on the type and amount of residue considered to be without any toxicological hazard for human health as expressed by the Acceptable Daily Intake (ADI) or on the basis of a temporary ADI that utilizes an additional safety factor. The MRL also takes into account other relative public health risks as well as food technological aspects.

When establishing an MRL, consideration is also given to residues that occur in food of plant origin or the environment. Furthermore, the MRL may be reduced to be consistent with official recommended or authorized usage, approved by national authorities, of the veterinary drugs under practical conditions.

An Acceptable Daily Intake (ADI) is an estimate made by the Joint FAO/WHO Expert Committee on Food Additives (JECFA) of the amount of a veterinary drug, expressed on a body weight basis, which can be ingested daily in food over a lifetime without appreciable health risk.

The Committee will hold its 21st Session in Minneapolis, Minnesota, on August 26-30, 2013. The Committee will work on the following items:

• Matters referred by the Codex Alimentarius Commission and other Codex Committees and Task Forces

• Matters arising from FAO/WHO and from the Joint FAO/WHO Expert Committee on Food Additives (JECFA)

• Report of the OIE activities, including the harmonization of technical requirements for registration of veterinary medicinal products

• Draft MRLs for Veterinary Drugs (at Step 6)

• Proposed draft MRLs for Veterinary Drugs (at Step 4)

• Risk Management Recommendations for Residues of Veterinary Drugs for which no ADI or MRL has been Recommended by JECFA due to Specific Human Health Concerns

• Proposed draft Guidelines on Performance

Characteristics for Multi-Residue Methods

• Risk Analysis Policy on Extrapolation of MRLs of Veterinary Drugs to Additional Species and Tissues

• Proposed “concern form” for the CCRVDF (format and policy procedure for its use)

• Draft Priority List of Veterinary Drugs Requiring Evaluation or Re-evaluation by JECFA

• Database on countries needs for MRLs

• Discussion paper on Guidelines on the Establishment of MRLs or Other Limits in Honey

Responsible Agencies: HHS/FDA/CVM; USDA/FSIS.

U.S. Participation: Yes.

Codex Committee on Contaminants in Foods

The Codex Committee on Contaminants in Foods (CCCF) establishes or endorses permitted maximum levels (ML) and, where necessary, revises existing guidelines levels for contaminants and naturally occurring toxicants in food and feed; prepares priority lists of contaminants and naturally occurring toxicants for risk assessment by the Joint FAO/WHO Expert Committee on Food Additives; considers and elaborates methods of analysis and sampling for the determination of contaminants and naturally occurring toxicants in food and feed; considers and elaborates standards or codes of practice for related subjects; and considers other matters assigned to it by the Commission in relation to contaminants and naturally occurring toxicants in food and feed.

The Committee held its Seventh Session in Moscow, Russian Federation, from April 8-12, 2013. The relevant document is REP13/CF. The following items are to be considered for adoption by the 36th Session of the Commission in July 2013:

• Maximum Levels for Hydrocyanic Acid for Cassava Flour and Gari (transfer from commodity standards to the General Standard for Contaminants & Toxins in Food and Feed) and consequential amendments to the Standards for Edible Cassava Flour, Gari and Sweet Cassava

To be considered at Step 5/8:

• Proposed draft Maximum Levels for Lead in Fruit Juices and Nectars, Ready to Drink; Canned Fruits and Canned Vegetables

• Proposed draft Maximum Levels for Deoxynivalenol (DON) in Cereal-Based Foods for Infants and Young Children

• Proposed draft Code of Practice for the Prevention and Reduction of Ochratoxin A Contamination in Cocoa

• Proposed draft Code of Practice to Reduce the Presence of Hydrocyanic Acid in Cassava and Cassava Products

To be considered at Step 5:

• Proposed draft Maximum Levels for DON in Raw Cereal Grains (Wheat, Maize and Barley), including Sampling Plans, and in Flour, Semolina, Meal and Flakes Derived from Wheat, Maize or Barley

The Committee will continue working on:

• Proposed draft Annex for the Prevention and Reduction of Aflatoxins and Ochratoxin A Contamination in Sorghum (Code of Practice for the Prevention and Reduction of Mycotoxin Contamination in Cereals)

• Proposed draft Code of Practice for Weed Control to Prevent and Reduce Pyrrolizidine Alkaloid Contamination in Food and Feed

• Proposed draft Maximum Levels for Arsenic in Rice and Rice Products

• Proposed draft Maximum Levels for Fumonisins in Maize and Maize Products and Associated Sampling Plans

• Proposed draft revision of the Maximum Levels for Lead in Fruits, Milk Products, and Infant Formula, Follow-up Formula and Formula for Special Medical Purposes for Infants in the General Standard for Contaminants and Toxins in Food and Feed

• Editorial amendments to the General Standard for Contaminants and Toxins in Food and Feed

• Discussion paper on the possibility of developing a code of practice for the prevention and reduction of arsenic contamination in rice

• Discussion paper on control measures for fumonisins in maize and maize products

• Discussion paper on the review of guideline levels for methylmecury in fish

• Discussion paper on the review of the Code of Practice for the Prevention and Reduction of Mycotoxin Contamination in Cereals

• Discussion paper on aflatoxins in cereals

• Discussion paper on the establishment of maximum levels for total aflatoxins in ready to eat peanuts and associated sampling plan

• Priority List of Contaminants and Naturally Occurring Toxicants Proposed for Evaluation by JECFA

The Committee will discontinue work on:

• Establishment of Maximum Levels for Hydrocyanic Acid for Cassava and Cassava Products

• Revision of guideline levels for radionuclides in foods in the General Standard for Contaminants and Toxins in Food and Feed (GSCTFF)

Responsible Agencies: HHS/FDA; USDA/FSIS.

U.S. Participation: Yes.

Codex Committee on Food Additives

The Codex Committee on Food Additives (CCFA) establishes or endorses acceptable maximum levels (MLs) for individual food additives; prepares a priority list of food additives for risk assessment by the Joint FAO/WHO Expert Committee on Food Additives (JECFA); assigns functional classes to individual food additives; recommends specifications of identity and purity for food additives for adoption by the Codex Alimentarius Commission; considers methods of analysis for the determination of additives in food; and considers and elaborates standards or codes of practice for related subjects such as the labeling of food additives when sold as such. The 45th Session of the Committee met in Beijing, China, March 18-22, 2013. The relevant document is REP13/FA. Immediately prior to the Plenary Session, there was a 2-day physical Working Group on the General Standard for Food Additives (GSFA) chaired by the United States.

The following items will be considered by the 36th Session of the Commission in July 2013. To be considered for adoption at Steps 8 & 5/8:

• Specific draft and proposed draft food additive provisions of the GSFA

To be considered for adoption at Step 5/8:

• Proposed draft amendments to the Codex Guideline on Class Names and International Numbering System (INS) for Food Additives (CAC/GL 36-1989)

• Specifications for the identity and purity of food additives arising from the 76th JECFA meeting

The Committee will continue working on:

• Amendments to the INS for food additives

• Specifications for the identity and purity of food additives

• Proposals for the provisions in Table 1 and 2 of the GSFA for: (i) Food additives listed in Table 3 with the function of “acidity regulator” for their use for technological functions other than as acidity regulators; (ii) other food additives listed in Table 3 with technological functions other than “emulsifier, thickener, stabilizer,” “color,” and “sweetener”; and (iii) for food additives listed in Table 3 with the technological function of “emulsifier, stabilizer and thickener” in selected food categories (i.e., 06.2 to 14.1.5, 04.1.1.2 and 04.2.1.2)

• Prioritization exercise of compounds proposed for re-evaluation by JECFA

• Proposal for additions and changes to the Priority List of Compounds Proposed for Evaluation by JECFA

• Information document on the GSFA

• Information document on food additive provisions in commodity standards

The Committee recommended the following Electronic Working Groups, with the named lead countries:

• Revision of the Guidelines for the Simple Evaluation of Food Additive Intakes (CAC/GL 3-1989) (Brazil)

• Options for the use of the prioritization exercise of compounds for re-evaluation by JECFA (Canada)

• Amendments to the INS (Iran)

• Food additive provisions of food category 14.2.3 (Grape wines) and its sub-categories (France)

• Descriptors and food additive provisions of food categories 01.1.1 (Milk and buttermilk (plain)), 01.1.1.1 (Milk (plain)), 01.1.1.2 (Buttermilk (plain)), and 01.1.2 (Dairy based drinks, flavoured and/or fermented (e.g., chocolate milk, cocoa, eggnog, drinking yoghurt, whey based drink) (New Zealand)

• Alignment of the food additive provisions of commodity standards and relevant provisions of the GSFA (Australia)

• The GSFA (United States), including:

○ Recommendations for the entry of proposals for new food additive provisions in food category 16.0 (Prepared foods) into the GSFA

○ Recommendations for the new entry and revision of existing provisions in CX/FA 13/45/12 (except those for food category 14.2.3 (Grape wines) and its sub-categories, and those for aspartame (INS 951) and aspartame-acesulfame (INS 962) in the GSFA

○ Proposals for the provisions in Tables 1 and 2 of the GSFA for food additives listed in Table 3 with the function of “acidity regulator” for their use for technological functions other than as acidity regulators

○ Proposals for consideration of the provisions in Tables 1 and 2 of the GSFA for food additives listed in Table 3 with functions other than “emulsifier, stabilizer, sweetener,” “color,” and “sweetener”

• The use of Note 161 (“Subject to national legislation of the importing country aimed, in particular, at consistency with Section 3.2 of the Preamble.”) in provisions for selected sweeteners (United Kingdom)

• The Committee will also prepare a discussion paper on the use of additives in additives (European Union).

The Committee also agreed to hold a physical Working Group on the GSFA immediately preceding the 46th session of CCFA to be chaired by the United States that will discuss: (i) The recommendations of the electronic Working Groups on the GSFA, the food additive provisions in food category 14.2.3 (Grape wines), and on Note 161 of the GSFA; and (ii) the proposals for provisions in Table 1 and 2 of the GSFA for certain food additives listed in Table 3.

The Committee recommended the work on the following items be postponed:

• Proposals for provisions in nisin (INS 234) in food category 08.0 (Meat and meat products, including poultry and game) and its sub-categories

• Proposals for new provisions and/or revision of provisions for acesulfame potassium (INS 950), aspartame (INS 951), and aspartame-acesulfame salt (INS 962) contained in the compilation document (CRD 2, Appendix VIII), other than in the context as an example for the work of the electronic Working Group on Note 161 of the GSFA

The Committee recommended the work on the following items be revoked:

• Provisions for aluminum-containing food additives in certain commodity standards

• Specifications for mineral oil, medium and low viscosity (INS 905e, f, g)

The Committee recommended the work on the following items be discontinued:

• Draft and proposed draft provisions for certain food additives in the GSFA

Responsible Agency: HHS/FDA.

U.S. Participation: Yes.

Codex Committee on Pesticide Residues

The Codex Committee on Pesticide Residues (CCPR) is responsible for establishing maximum limits for pesticide residues in specific food items or in groups of food; establishing maximum limits for pesticide residues in certain animal feeding stuffs moving in international trade where this is justified for reasons of protection of human health; preparing priority lists of pesticides for evaluation by the Joint FAO/WHO Meeting on Pesticide Residues (JMPR); considering methods of sampling and analysis for the determination of pesticide residues in food and feed; considering other matters in relation to the safety of food and feed containing pesticide residues and; establishing maximum limits for environmental and industrial contaminants showing chemical or other similarity to pesticides in specific food items or groups of food.

The 45th Session of the Committee met in Beijing, China, on May 6-11, 2013. The relevant document is REP13/PR. The following items will be considered at the 36th Session of the Codex Alimentarius Commission in July 2013. To be considered at Steps 5 and 8:

• Draft and proposed draft Maximum Residue Limits for Pesticides in Foods and Feeds

The Committee will continue working on:

• Draft revision of the Classification of Foods and Animal Feeds: Selected vegetable commodity groups at Step 7

• Proposed draft revision of the Classification of Foods and Animal Feeds: Other selected vegetable commodity groups

• Proposed draft Table 2—Examples of selection of representative commodities for selected vegetable commodity groups (item 7a) and other selected commodity groups (Item 7b) (for inclusion in the Principles and Guidance for the Selection of Representative Commodities for the Extrapolation of Maximum Residue Limits for Pesticides to Commodity Groups)

• Discussion paper on Guidance to Facilitate the Establishment of Maximum Residue Limits for Pesticides for Minor Crops/Specialty Crops

• Revision of the Risk Analysis Principles applied by the Codex Committee on Pesticide Residues

• Establishment of the Codex Schedules and Priority Lists of Pesticides

The Committee has agreed to the following New Work:

• Discussion paper on performance criteria for suitability assessment of methods of analysis for pesticide residues

Responsible Agencies: EPA; USDA/AMS.

U.S. Participation: Yes.

Codex Committee on Methods of Analysis and Sampling

The Codex Committee on Methods of Analysis and Sampling (CCMAS) defines the criteria appropriate to Codex Methods of Analysis and Sampling; serves as a coordinating body for Codex with other international groups working on methods of analysis and sampling and quality assurance systems for laboratories; specifies, on the basis of final recommendations submitted to it by the bodies referred to above, reference methods of analysis and sampling appropriate to Codex standards which are generally applicable to a number of foods; considers, amends if necessary, and endorses as appropriate, methods of analysis and sampling proposed by Codex commodity committees, except for methods of analysis and sampling for residues of pesticides or veterinary drugs in food, the assessment of microbiological quality and safety in food, and the assessment of specifications for food additives; elaborates sampling plans and procedures, as may be required; considers specific sampling and analysis problems submitted to it by the Commission or any of its Committees; and defines procedures, protocols, guidelines or related texts for the assessment of food laboratory proficiency, as well as quality assurance systems for laboratories.

The 34th Session of the Committee met in Budapest, Hungary, from March 4-8, 2013. The relevant document is REP13/MAS. The following items will be considered by the Commission at its 36th Session in July 2013. To be considered for adoption at step 8:

• Methods of Analysis and Sampling in Codex Standards at Different Steps

• Draft Principles for the Use of Sampling and Testing in International Food Trade: Other Standards and Related Texts

• Proposed amendment to the Guidelines for Establishing Numeric Values for Method Criteria and/or Assessing Methods for Compliance Thereof in the Procedural Manual

The Committee will continue working on:

• Other Sections—Explanatory Notes for the proposed draft Principles for the Use of Sampling and Testing in International Food Trade

• Discussion paper on considering procedures for establishing criteria:

○ For multi-analyte methods that are used for specifications that require a combination of components or use toxicity equivalent factors

○ Applicable to Type I methods

○ Where there is considerable scientific or statistical overlap between (i) and (ii). These will be considered together

• Discussion paper on the Elaboration of Procedures for Regular Updating of Methods

• Discussion paper on Sampling in Codex Standards

Responsible Agencies: HHS/FDA; USDA/GIPSA.

U.S. Participation: Yes.

Codex Committee on Food Import and Export Inspection and Certification Systems

The Codex Committee on Food Import and Export Inspection and Certification Systems is responsible for developing principles and guidelines for food import and export inspection and certification systems, with a view to harmonizing methods and procedures that protect the health of consumers, ensure fair trading practices, and facilitate international trade in foodstuffs; developing principles and guidelines for the application of measures by the competent authorities of exporting and importing countries to provide assurance, where necessary, that foodstuffs comply with requirements, especially statutory health requirements; developing guidelines for the utilization, as and when appropriate, of quality assurance systems to ensure that foodstuffs conform with requirements and promote the recognition of these systems in facilitating trade in food products under bilateral/multilateral arrangements by countries; developing guidelines and criteria with respect to format, declarations, and language of such official certificates as countries may require with a view towards international harmonization; making recommendations for information exchange in relation to food import/export control; consulting as necessary with other international groups working on matters related to food inspection and certification systems; and considering other matters assigned to it by the Commission in relation to food inspection and certification systems.

The 20th Session of the Committee met in Chiang Mai, Thailand, February 18-22, 2013. The relevant document is REP13/FICS. The following items will be considered by the 36th Session of the Commission in July 2013. To be considered for adoption at Step 8:

• Draft amendments to Guidelines for the Exchange of Information in Food Safety Emergency Situations

To be considered for adoption at Step 8 & 5/8:

• Draft and proposed draft Principles and Guidelines for National Food Control Systems (Sections 1-3 at Step 6 and Section 4 at Step 3)

The Committee is continuing work on:

• Discussion paper on Principles and Guidelines for the Elaboration and Management of Questionnaires Directed at Exporting Countries

• Discussion paper on Principles and Guidelines for Monitoring Regulatory Performance of National Food Control Systems

• Discussion paper on the revision of the Principles and Guidelines for the Exchange of Information in Food Safety Emergency Situations

• Draft amendments to Guidelines for the Exchange of Information between Countries on Rejections of Imported Food

Responsible Agencies: HHS/FDA; USDA/FSIS.

U.S. Participation: Yes.

Codex Committee on Food Labelling

The Codex Committee on Food Labelling drafts provisions on labeling applicable to all foods; considers, amends, and endorses draft specific provisions on labeling prepared by the Codex Committees drafting standards, codes of practice, and guidelines; and studies specific labeling problems assigned by the Codex Alimentarius Commission. The Committee also studies problems associated with the advertisement of food with particular reference to claims and misleading descriptions.

The Committee held its 41st Session in Charlottetown, Prince Edward Island, Canada, on May 14-17, 2013. The reference document is REP 13/FL. The following items will be considered at the 36th Session of the Codex Alimentarius Commission in July 2013. To be considered at Step 8:

Consideration of labelling provisions in draft Codex standards for the draft standard for:

• Smoked Fish, Smoke-Flavoured Fish and Smoke-Dried Fish;

• Raw, Fresh and Quick Frozen Scallop Products; and

• Guidelines on Formulated Complementary Foods for Older Infants and Young Children

• Implementation of the WHO Global Strategy on Diet, Physical Activity and Health

• Guidelines for the Production, Processing, Labelling and Marketing of Organically Produced Foods

The Committee will continue working on:

• Organic Aquaculture

The Committee has agreed to the following New Work:

• General Standard for the Labelling of Prepackaged Foods to address the issue of date marking.

Responsible Agencies: HHS/FDA; USDA/FSIS.

U.S. Participation: Yes.

Codex Committee on Food Hygiene

The Codex Committee on Food Hygiene (CCFH):

• Develops basic provisions on food hygiene applicable to all food or to specific food types;

• Considers and amends or endorses provisions on food hygiene contained in Codex commodity standards and codes of practice developed by other Codex commodity committees;

• Considers specific food hygiene problems assigned to it by the Commission;

• Suggests and prioritizes areas where there is a need for microbiological risk assessment at the international level and develops questions to be addressed by the risk assessors; and

• Considers microbiological risk management matters in relation to food hygiene and in relation to FAO/WHO risk assessments.

The Committee held its 44th Session in New Orleans, Louisiana from November 12-16, 2012. The reference document is REP 13/FH. The following items will be considered by the Commission at its 36th Session in July 2013. To be considered for adoption at Step 5/8:

• Proposed draft Principles and Guidelines for the Establishment and Application of Microbiological Criteria Related to Foods

• Proposed draft Annex on Berries to the Code of Hygienic Practice for Fresh Fruits and Vegetables

The Committee agreed to request the Commission to approve new work on a Code of Hygienic Practice for Low-Moisture Foods.

The Committee will continue working on:

• Proposed draft Guidelines for Control of Specific Zoonotic Parasites in Meat: Trichinella spp. and Cysticercus bovis

• Proposed draft Code of Hygienic Practice for Spices and Dried Aromatic Herbs

• Criteria for evaluating and prioritizing new work, which will be used in the development of a “forward workplan”

In addition, the Committee will consider the following:

• Discussion paper on occurrence and control of parasites

• Discussion paper on the need to revise the Code of Hygienic Practice for Fresh Fruits and Vegetables

• Proposals for new work

• Proposed draft Code of Hygienic Practice for Low-Moisture Foods

Responsible Agencies: HHS/FDA; USDA/FSIS.

U.S. Participation: Yes.

Codex Committee on Fresh Fruits and Vegetables

The Codex Committee on Fresh Fruits and Vegetables is responsible for elaborating worldwide standards and codes of practice as may be appropriate for fresh fruits and vegetables; for consulting with the UNECE Working Party on Agricultural Quality Standards in the elaboration of worldwide standards and codes of practice, with particular regard to ensuring that there is no duplication of standards or codes of practice and that they follow the same broad format; and for consulting, as necessary, with other international organizations which are active in the area of standardization of fresh fruits and vegetables.

The 17th Session of the Committee met in Mexico City, Mexico, September 3-7, 2012. The relevant document is REP13/FFV. The following items will be considered by the 36th Session of the Commission in July 2013. To be considered for adoption at Step 8:

• Draft Standard for Avocado (revision of Codex STAN 197-1995)

• Draft provisions for uniformity rules and other size related provisions (sections 5.1—uniformity and 6.2.4—commercial identification) (draft Standard for Avocado)

• Draft Standard for Pomegranate

• Proposed draft provisions for sizing and uniformity rules (sections 3 and 5.1) (draft Standard for Pomegranate)

• Proposed draft Standard for Golden Passion Fruit

• Proposed draft Standard for Durian

• Proposed draft Standard for Okra

• Proposed draft Standard for Ware Potato

• Proposals for new work on Codex standards for fresh fruits and vegetables

• Revision of the terms of reference of the Codex Committee on Fresh Fruits and Vegetables

Responsible Agencies: USDA/AMS; HHS/FDA.

U.S. Participation: Yes.

Codex Committee on Nutrition and Foods for Special Dietary Uses

The Codex Committee on Nutrition and Foods for Special Dietary Uses (CCNFSDU) is responsible for studying nutrition issues referred to it by the Codex Alimentarius Commission. The Committee also drafts general provisions, as appropriate, on nutritional aspects of all foods and develops standards, guidelines, or related texts for foods for special dietary uses in cooperation with other committees where necessary; considers, amends if necessary, and endorses provisions on nutritional aspects proposed for inclusion in Codex standards, guidelines, and related texts.

The Committee held its 34th Session in Bad Soden am Taunus, Germany, on December 3-7, 2012. The reference document is REP 13/NSFDU. The following items will be considered by the Commission at its 36th Session in July 2013. To be considered for adoption:

• Consolidation of the General Principles for Establishing Nutrient Reference Values of Vitamins and Minerals and General Principles for Establishing Nutrient Reference Values for Nutrients Associated with Risk of Diet-Related Non-Communicable Diseases (NRVs-NCD) (for labelling purposes)

To be considered for adoption at Step 8:

• Draft revision of the Guidelines on Formulated Supplementary Foods for Older Infants and Young Children

• Draft NRVs-NCD for saturated fatty acids and sodium

To be considered for adoption at Step 5/8:

• Proposed draft General Principles for Establishing Nutrient Reference Values for Nutrients Associated with Risk of Diet-Related Non-Communicable Diseases for General Population (NRVs-NCD)

• Proposed draft Additional or Revised Nutrient Reference Values for Labeling Purposes in the Codex Guidelines on Nutrition Labeling (Vitamin K, Thiamin, Riboflavin, Niacin, Vitamin B6, Folate, Vitamin B12, Pantothenate, Biotin, Calcium and Iodine, and related footnotes)

The Committee will continue working on:

• Proposed draft Additional or Revised Nutrient Reference Values for Labelling Purposes in the Codex Guidelines on Nutrition Labelling (Other values than described above, including protein)

• Proposed draft Revision of the Codex General Principles for the Addition of Essential Nutrients to Foods

• Proposed draft Amendment of the Standard for Processed Cereal-Based Foods for Infants and Young Children to include a New Part B for Underweight Children

• Proposal to review the Codex Standard for Follow-up Formula

• Discussion paper on a potential NRV for Potassium in relation to the risk of NCD

• Proposed draft revision of the List of Food Additives

• Discussion paper on biofortification

Responsible Agencies: HHS/FDA; USDA/ARS.

U.S. Participation: Yes.

Codex Committee on Fats and Oils

The Codex Committee on Fats and Oils (CCFO) is responsible for elaborating worldwide standards for fats and oils of animal, vegetable, and marine origin, including margarine and olive oil.

The Committee held its 23rd Session in Langkawi, Malaysia, from February 25-March 1, 2013. The reference document is REP 13/FO. The following items will be considered by the Commission at its 36th Session in July 2013. To be considered for adoption:

• Amendments to the Standard for Edible Fats and Oils Not Covered by Individual Standards (Codex STAN 19-1981), the Standard for Named Animal Fats (CODEX STAN 211-1999), and the Standard for Olive Oils and Olive Pomace Oils (CODEX STAN 33-1981)

• Amendments to the lists of acceptable previous cargoes in the Code of Practice for the Storage and Transport of Edible Fats and Oils in Bulk

To be considered for adoption at step 5/8:

• Proposed draft amendment to parameters for rice bran oil in the Standard for Named Vegetable Oils

The Committee will continue working on:

• Proposed draft Standard for Fish Oils

• Review of the lists of acceptable previous cargoes in the Code of Practice for the Storage and Transport of Edible Fats and Oils in Bulk

• Discussion paper on the amendment of the Standard for Named Vegetable Oils: Sunflower Seed Oils

• Discussion paper on cold pressed oils

• Discussion paper on the amendment of the Standard for Named Vegetable Oils: High Oleic Soybean Oil

• Discussion paper on the amendment of the Standard for Named Vegetable Oils: Palm Oil with High Oleic Acid OxG

Responsible Agencies: HHS/FDA; USDA/ARS.

U.S. Participation: Yes.

Codex Committee on Processed Fruits and Vegetables

The Codex Committee on Processed Fruits and Vegetables (CCPFV) is responsible for elaborating worldwide standards and related text for all types of processed fruits and vegetables including but not limited to canned, dried, and frozen products, as well as fruit and vegetable juices and nectars.

The 26th Session of the CCPFV met in Montego Bay, Jamaica, on October 15-19, 2012. The following items will be considered by the Commission at its 36th Session in July 2013. To be considered for adoption:

• Amendment to the Guidelines for Packing Media for Canned Fruits

• Amendment to the Standards for Preserved Tomatoes, Processed Tomato Concentrates and Certain Canned Citrus Fruits (section 4—Food additives)

• Amendment to the Standard for Canned Applesauce (Codex STAN 17-1981) (Section 9—Methods of Analysis)

To be considered for adoption at Step 5/8:

• Proposed draft Standard for Table Olives (revision of Codex Standard 66-1981)

To be considered for adoption at Step 5:

• Proposed draft Standard for Certain Canned Fruits (general provisions) and proposed draft Annex on Mangoes

• Proposed draft Standard for Certain Quick Frozen Vegetables (general provisions)

The Committee will continue working on:

• Proposed draft Sampling Plan including Metrological Provisions for Controlling the Minimum Drained Weight in Canned Fruits and Vegetables in Packing Media

• Proposed draft annexes on pears and pineapples (proposed draft Standard for Certain Canned Fruits)

• Proposed draft annexes on several quick frozen vegetables (proposed draft Standard for Certain Quick Frozen Vegetables)

• Proposal for the extension of the territorial application of the Regional Standard for Ginseng Products

• Food additive provisions in the Standards for Pickled Fruits and Vegetables (CODEX STAN 260-2007), Canned Bamboo Shoots (CODEX STAN 241-2003) and the Annex on Mushrooms of the Standard for Certain Canned Vegetables (CODEX STAN 297-2009)

• Packing Media provisions for pickled vegetables in the Standard for Pickled Fruits and Vegetables (CODEX STAN 260-2007)

• Status of work on the revision of Codex Standards for Processed Fruits and Vegetables

Responsible Agencies: USDA/AMS; HHS/FDA.

U.S. Participation: Yes.

Codex Committee on Sugars

The Codex Committee on Sugars is responsible for elaborating worldwide standards for all types of sugar and sugar products. The Committee had been adjourned sine die, but became active again following the request from Colombia at the 34th Session of the Codex Alimentarius Commission (2011).

The Committee decided to work in electronic form, and established an electronic Working Group, led by Colombia. The Working Group is currently circulating the draft Standard for Panela for consensus. The Working Group hopes to send the Standard for Panela forward to the 36th Session of the Commission in July 2013 for adoption at Step 5/8.

Responsible Agencies: HHS/FDA.

U.S. Participation: Yes.

Certain Codex Commodity Committees

Several Codex Alimentarius Commodity Committees have adjourned sine die. The following Committees fall into this category:

• Cereals, Pulses and Legumes

Responsible Agency: HHS/FDA.

U.S. Participation: Yes.

• Cocoa Products and Chocolate

Responsible Agency: HHS/FDA.

U.S. Participation: Yes.

• Meat Hygiene

Responsible Agency: USDA/FSIS.

U.S. Participation: Yes.

• Milk and Milk Products

Responsible Agencies: USDA/AMS; HHS/FDA.

U.S. Participation: Yes.

• Natural Mineral Waters

Responsible Agency: HHS/FDA.

U.S. Participation: Yes.

• Vegetable Proteins

Responsible Agency: USDA/ARS.

U.S. Participation: Yes.

Ad Hoc Intergovernmental Task Force on Animal Feeding

The objective of the ad hoc Intergovernmental Task Force on Animal Feeding (TFAF) is to ensure the safety and quality of foods of animal origin. Therefore, the Task Force develops guidelines or standards, as appropriate, on Good Animal Feeding practices. The Task Force was re-activated in 2011 for the purpose of: (a) Developing guidelines, intended for governments, on how to apply the existing Codex risk assessment methodologies to the various types of hazards related to contaminants/residues in feed ingredients, such as feed additives used in feeding stuffs for food producing animals, and using specific science-based risk assessment criteria to apply to feed contaminants/residues; and (b) developing a prioritized list of hazards in feed ingredients and feed additives for governmental use.

The Committee held its 7th session in Berne, Switzerland, on February 4-8, 2013. The relevant document is REP 13/AF. The following items will be considered at the 36th session of the Codex Alimentarius Commission in July 2013. To be considered at Step 8:

• Draft Guidelines on the Application of Risk Assessment for Feed

To be considered at Step 5/8:

• Proposed draft Guidance for Use by Governments in Prioritizing the National Feed Hazards (renamed Guidance on Prioritizing Hazards in Feed)

Responsible Agencies: HHS/FDA; USDA/FSIS.

U.S. Participation: Yes.

FAO/WHO Regional Coordinating Committees

The FAO/WHO Regional Coordinating Committees define the problems and needs of the regions concerning food standards and food control; promote within the Committee contacts for the mutual exchange of information on proposed regulatory initiatives and problems arising from food control and stimulate the strengthening of food control infrastructures; recommend to the Commission the development of worldwide standards for products of interest to the region, including products considered by the Committees to have an international market potential in the future; develop regional standards for food products moving exclusively or almost exclusively in intra-regional trade; draw the attention of the Commission to any aspects of the Commission's work of particular significance to the region; promote coordination of all regional food standards work undertaken by international governmental and non-governmental organizations within each region; exercise a general coordinating role for the region and such other functions as may be entrusted to it by the Commission; and promote the use of Codex standards and related texts by members.

There are six regional coordinating committees:

Coordinating Committee for Africa

Coordinating Committee for Asia

Coordinating Committee for Europe

Coordinating Committee for Latin America and the Caribbean

Coordinating Committee for the Near East

Coordinating Committee for North America and the Southwest Pacific

Coordinating Committee for Africa

The Committee (CCAfrica) held its 20th session in Cameroon, from January 29-February 1, 2013. The relevant document is REP13/Africa.

The Committee:

• Agreed to consider the need for development of a regional standard for processed cheese;

• Agreed that there is justification for the establishment of a new Codex Committee for Spices, Aromatic Plants and their Formulations; and

• Considered the Draft Strategic Plan 2014-2019 and made a number of comments and suggestions.

Responsible Agency: USDA/FSIS.

U.S. Participation: Yes (as observer).

Coordinating Committee for Asia

The Committee (CCAsia) held its 18th session in Tokyo, Japan, from November 5-9, 2012. The relevant document is REP 13/ASIA. The following items will be considered by the Commission at its 36th Session in July 2013.

The Committee:

• Considered the Draft Strategic Plan 2014-2019 and made a number of comments and suggestions.

To be considered for adoption:

• Amendments to some food additive provisions in the Regional Standards for Fermented Soybean Paste and for Chili Sauce

To be considered at Step 5/8:

• Proposed draft Regional Standard for Tempe

To be considered at Step 5:

• Proposed draft Standard for Non-Fermented Soybean Products

The Committee will continue working on:

• Proposed draft Standard for Laver Products

• Proposed draft Code of Hygienic Practice for Street-Vended Foods

• Discussion paper on New Work on a Regional Standard for Edible Crickets on their Products

• Preparation of the Strategic Plan for CCASIA 2015-2020

Responsible Agency: USDA/FSIS.

U.S. Participation: Yes (as observer).

Coordinating Committee for Europe

The Committee (CCEurope) held its 28th session in Batumi, Georgia, from September 25-28, 2012. The relevant document is REP 13/EURO. The following items will be considered by the Commission at its 36th Session in July 2013.

The Committee:

• Considered the Draft Strategic Plan 2014-2019 and made a number of comments and suggestions

To be considered for adoption at Step 5/8:

• Proposed draft Revised Regional Standard for Chanterelles

The Committee will continue working on:

• Proposed draft Regional Standard for Ayran

Responsible Agency: USDA/FSIS.

U.S. Participation: No.

Coordinating Committee for Latin America and the Caribbean

The Coordinating Committee for Latin America and the Caribbean (CCLAC) held its 18th session in Costa Rica, from November 19-23, 2012. The relevant document is REP 13/LAC. The following items will be considered by the Commission at its 36th Session in July 2013.

The Committee:

• Considered the Draft Strategic Plan 2014-2019 and made a number of comments and suggestions

To be considered for adoption:

• Reappointment of Costa Rica for a second term as Coordinator for Latin America and the Caribbean (unanimous agreement to recommend)

• Proposal for new work on a Codex Regional Standard for Yaćon

Responsible Agency: USDA/FSIS.

U.S. Participation: Yes (as observer).

Coordinating Committee for the Near East

The Committee (CCNEA) held its 7th session in Beirut, Lebanon, from January 21-25, 2013. The relevant document is REP 13/NEA. The following items will be considered by the Commission at its 36th Session in July 2013.

The Committee:

• Considered the Draft Strategic Plan 2014-2019 and made a number of comments and suggestions

To be considered at Step 8:

• Regional Code of Practice for Street-Vended Foods

To be considered at Step 5/8:

• Regional Standard for Date Paste

The Committee will continue working on:

• Regional Standard for Doogh

• Standard for Halal Food

• Regional Standard for Labneh

• Regional Standard for Mixed Zaatar

• Standard for Refrigerated and Frozen Meat

• Preparation of the Strategic Plan for CCNEA 2015-2020

Responsible Agency: USDA/FSIS.

U.S. Participation: No.

Coordinating Committee for North America and the Southwest Pacific (CCNASWP)

The Committee (CCNASWP) will hold its 12th Session in Madang, Papua New Guinea, from September 19-22, 2012. The relevant document is REP 13/NASWP. The following item will be considered by the Commission at its 36th Session in July 2013.

The Committee:

• Considered the Draft Strategic Plan 2014-2019 and made a number of comments and suggestions

The committee will continue working on:

• Draft Strategic Plan for the CCNASWP 2014-2019

• A revision to the discussion paper on the development of a regional standard for kava, focusing on the dried product that can be used as a beverage when mixed with water

• A new discussion paper to collect information identifying the products and the related food safety or trade issues that could be addressed by regional standards and to develop a mechanism for their prioritization

Responsible Agency: USDA/FSIS.

U.S. Participation: Yes.

Contact: U.S. Codex Office, United States Department of Agriculture, Room 4861, South Agriculture Building, 1400 Independence Avenue SW., Washington, DC 20250-3700, Phone: (202) 205-7760, Fax: (202) 720-3157, Email: uscodex@fsis.usda.gov.

Attachment 2

U.S. Codex Alimentarius Officials

Codex Chairpersons From the United States

Codex Committee on Food Hygiene

Emilio Esteban, DVM, MBA, MPVM, Ph.D., Executive Associate for Laboratory Services, Office of Public Health Science, Food Safety and Inspection Service, U.S. Department of Agriculture, 950 College Station Road, Athens, GA 30605, Phone: (706) 546-3429, Fax: (706) 546-3428, Email: emilio.esteban@fsis.usda.gov.

Codex Committee on Processed Fruits and Vegetables

Richard Boyd, Head, Contract Services Section, Inspection Branch, Specialty Crops Inspection Division, Fruit and Vegetable Program, Agricultural Marketing Service, U.S. Department of Agriculture, 1400 Independence Avenue SW., Mail Stop 0247, Room 0726—South Building, Washington, DC 20250, Phone: (202) 720-5021, Fax: (202) 690-1527, Email: richard.boyd@ams.usda.gov.

Codex Committee on Residues of Veterinary Drugs in Foods

Steven D. Vaughn, DVM, Director, Office of New Animal Drug Evaluation, Center for Veterinary Medicine, U.S. Food and Drug Administration, MPN 1, Room 236, 7520 Standish Place, Rockville, Maryland 20855, Phone: (240) 276-8300, Fax: (240) 276-8242, Email: Steven.Vaughn@fda.hhs.gov.

Listing of U.S. Delegates and Alternates

Worldwide General Subject Codex Committees

Codex Committee on Contaminants in Foods (Host Government—the Netherlands)

U.S. Delegate

Nega Beru, Ph.D., Director, Office of Food Safety (HFS-300), Center for Food Safety and Applied Nutrition, U.S. Food and Drug Administration, 5100 Paint Branch Parkway, College Park, MD 20740, Phone: (240) 402-1700, Fax: (301) 436-2651, Email: Nega.Beru@fda.hhs.gov.

Alternate Delegate

Kerry Dearfield, Ph.D., Chief Scientist, Office of Public Health Science, Food Safety and Inspection Service, U.S. Department of Agriculture, Room 9-195, PP 3 (Mail Stop 3766), 1400 Independence Avenue SW., Washington, DC 20250, Phone: (202) 690-6451, Fax: (202) 690-6337, Email: Kerry.Dearfield@fsis.usda.gov.

Codex Committee on Food Additives (Host Government—China)

U.S. Delegate

Susan E. Carberry, Ph.D., Supervisory Chemist, Division of Petition Review, Office of Food Additive Safety (HFS-265), Center for Food Safety and Applied Nutrition, U.S. Food and Drug Administration, 5100 Paint Branch Parkway, College Park, MD 20740, Phone: (240) 402-1269, Fax: (301) 436-2972, Email: Susan.Carberry@fda.hhs.gov.

Alternate Delegate

Paul S. Honigfort, Ph.D., Consumer Safety Officer, Division of Food Contact Notifications (HFS-275), Office of Food Additive Safety, U.S. Food and Drug Administration, 5100 Paint Branch Parkway, College Park, MD 20740, Phone: (240) 402-1206, Fax: (301) 436-2965, Email: paul.honigfort@fda.hhs.gov.

Codex Committee on Food Hygiene (Host Government—United States)

U.S. Delegate

Jenny Scott, Senior Advisor, Office of Food Safety, Center for Food Safety and Applied Nutrition, U.S. Food and Drug Administration, 5100 Paint Branch Parkway, HFS-300, Room 3B-014, College Park, MD 20740-3835, Phone: (240) 402-2166, Fax: (301) 436-2632, Email: Jenny.Scott@fda.hhs.gov.

Alternate Delegates

Kerry Dearfield, Ph.D., Chief Scientist, Office of Public Health Science, Food Safety and Inspection Service, U.S. Department of Agriculture, Room 9-195, PP 3 (Mail Stop 3766), 1400 Independence Avenue SW., Washington, DC 20250, Phone: (202) 690-6451, Fax: (202) 690-6337, Email: Kerry.Dearfield@fsis.usda.gov.

Dr. Joyce Saltsman, Interdisciplinary Scientist, Office of Food Safety (HFS-317), Center for Food Safety and Applied Nutrition, U.S. Food and Drug Administration, 5100 Paint Branch Parkway, College Park, MD 20740, Phone: (352) 391-5023, Email: Joyce.Saltsman@fda.hhs.gov.

Codex Committee on Food Import and Export Inspection and Certification Systems (Host Government—Australia)

U.S. Delegate

Mary Stanley, Director, International Policy Division, Office of Policy and Program Development, Food Safety and Inspection Service, U.S. Department of Agriculture, Room 2925, South Agriculture Building, 1400 Independence Avenue SW., Washington, DC 20250, Phone: (202) 720-0287, Fax: (202) 720-4929, Email: Mary.Stanley@fsis.usda.gov.

Alternate Delegate

H. Michael Wehr, Senior Advisor and Codex Program Coordinator, International Affairs Staff, Center for Food Safety and Applied Nutrition, U.S. Food and Drug Administration, 5100 Paint Branch Parkway (HFS-550), College Park, MD 20740, Phone: (240) 402-1724, Fax: (301) 436-2618, Email: Michael.wehr@fda.hhs.gov.

Codex Committee on Food Labeling (Host Government—Canada)

U.S. Delegate

Felicia B. Billingslea, Director, Food Labeling and Standards Staff, Office of Nutrition, Labeling, and Dietary Supplements, Center for Food Safety and Applied Nutrition, U.S. Food and Drug Administration, 5100 Paint Branch Parkway (HFS-820), College Park, MD 20740, Phone: (240) 402-2371, Fax: (301) 436-2636, felicia.billingslea@fda.hhs.gov.

Alternate Delegate

Jeffrey Canavan, Deputy Director, Labeling and Program Delivery Division, Food Safety and Inspection Service, U.S. Department of Agriculture, 1400 Independence Avenue SW.—Stop 5273, Patriots Plaza 3, 8th Floor-161A, Washington, DC 20250, Phone: (301) 504-0860, Fax: (202) 245-4792, Email: jeff.canavan@fsis.usda.gov.

Codex Committee on General Principles (Host Government—France)

U.S. Delegate

Note: A member of the Steering Committee heads the delegation to meetings of the General Principles Committee.

Codex Committee on Methods of Analysis and Sampling (Host Government—Hungary)

U.S. Delegate

Gregory O. Noonan, Ph.D., Research Chemist, Division of Analytical Chemistry, Center for Food Safety and Applied Nutrition, Food and Drug Administration, 5100 Paint Branch Parkway, College Park, MD 20740, Phone: 240-402-2250, Fax: 301-436-2634, Email: Gregory.Noonan@fda.hhs.gov.

Alternate Delegate

David B. Funk, Deputy Director, Chief Scientist, GIPSA, U.S. Department of Agriculture, Grain Inspection, Packers and Stockyards Administration, Technology & Science Division, 10383 Ambassador Dr., Kansas City, MO 64153, Phone: (816) 891-0473, Fax: (816) 891-8070, Email: David.b.funk@usda.gov.

Codex Committee on Nutrition and Food for Special Dietary Uses (Host Government—Germany)

U.S. Delegate

Paula R. Trumbo, Ph.D., Director (A), Nutrition Programs, Office of Nutrition, Labeling and Dietary Supplements, Center for Food Safety and Applied Nutrition, US Food and Drug Administration, 5100 Paint Branch Parkway HFS-830, College Park, MD 20740, Phone: (240) 402-2579, Fax: (301) 436-2579, Email: Paula.Trumbo@fda.hhs.gov.

Alternate Delegate

Allison Yates, Ph.D., Associate Director, Beltsville Area, Agricultural Research Service, U.S. Department of Agriculture, 10300 Baltimore Avenue, Bldg 003, Room 223, Beltsville, MD 20705, Phone: (301) 504-5193, Fax: (301) 504-5863, Email: Allison.Yates@ars.usda.gov.

Codex Committee on Pesticide Residues (Host Government—China)

U.S. Delegate

Lois Rossi, Director of Registration Division, Office of Pesticide Programs, U.S. Environmental Protection Agency, Ariel Rios Building, 1200 Pennsylvania Avenue NW., Washington, DC 20460, Phone: (703) 305-5447, Fax: (703) 305-6920, Email: rossi.lois@epa.gov.

Alternate Delegate

Dr. Pat Basu Senior Leader Chemistry, Toxicology & Related Sciences Office of Public Health Science Food Safety and Inspection Service, U.S. Department of Agriculture Patriots Plaza III, Room 9-205, 1400 Independence Ave. SW., Washington, DC 20250-3766, Phone: (202) 690-6558, Fax: (202) 690-2364, Email: Pat.Basu@fsis.usda.gov.

Codex Committee on Residues of Veterinary Drugs in Foods (Host Government—United States)

U.S. Delegate

Dr. Kevin Greenlees, Senior Advisor for Science & Policy, Office of New Animal Drug Evaluation, HFV-100, Center for Veterinary Medicine, U.S. Food and Drug Administration, 7520 Standish Place, Rockville, MD 20855, Phone: (240) 276-8214, Fax: (240) 276-9538, Email: Kevin.Greenlees@fda.hhs.gov.

Alternate Delegate

Dr. Charles Pixley, DVM, Ph.D., Director, Laboratory Quality Assurance Division, Office of Public Health Science, Food Safety and Inspection Service, U.S. Department of Agriculture, 950 College Station Road, Athens, GA 30605, Phone: (706) 546-3559, Fax: (706) 546-3452, Email: charles.pixley@fsis.usda.gov.

Worldwide Commodity Codex Committees (Active)

Codex Committee on Fats and Oils (Host Government—Malaysia)

U.S. Delegate

Martin J. Stutsman, J.D., Office of Food Safety (HFS-317), Center for Food Safety and Applied Nutrition, U.S. Food and Drug Administration, 5100 Paint Branch Parkway, College Park, MD 20740-3835, Phone: (240) 402-1642, Fax: (301) 436-2651, Email: Martin.Stutsman@fda.hhs.gov.

Alternate Delegate

Robert A. Moreau, Ph.D., Research Chemist, Eastern Regional Research Center, Agricultural Research Service, U.S. Department of Agriculture, 600 East Mermaid Lane, Wyndmoor, PA 19038, Phone: (215) 233-6428, Fax: (215) 233-6406, Email: robert.moreau@ars.usda.gov.

Codex Committee on Fish and Fishery Products (Host Government—Norway)

Delegates

Timothy Hansen, Director, Seafood Inspection Program, National Marine Fisheries Services, National Oceanic and Atmospheric Administration, 1315 East West Highway SSMC#3, Silver Spring, MD 20910, Phone: (301) 713-2355, Fax: (301) 713-1081, Email: Timothy.Hansen@noaa.gov.

Dr. William Jones, Director, Division of Seafood Safety, Office of Food Safety (HFS-325), U.S. Food and Drug Administration, 5100 Paint Branch Parkway, College Park, MD 20740, Phone: (240) 402-2300, Fax: (301) 436-2601, Email: William.Jones@fda.hhs.gov.

Codex Committee on Fresh Fruits and Vegetables (Host Government—Mexico)

U.S. Delegate

Dorian LaFond, International Standards Coordinator, Fruit and Vegetables Program, Specialty Crop Inspection Division, Agricultural Marketing Service, U.S. Department of Agriculture, Stop 0247, South Agriculture Building, 1400 Independence Avenue SW., Washington, DC 20250-0247, Phone: (202) 690-4944, Fax: (202) 690-1527, Email: dorian.lafond@usda.gov.

Alternate Delegate

Dongmin (Don) Mu, Product Evaluation and Labeling Team, Food Labeling and Standards Staff, Office of Nutrition, Labeling and Dietary Supplements, U.S. Food and Drug Administration, 5100 Paint Branch Parkway, College Park, MD 20740, Phone: (240) 402-1775, Fax: (301) 436-2636, Email: dongmin.mu@fda.hhs.gov.

Codex Committee on Processed Fruits and Vegetables (Host Government—United States)

U.S. Delegate

Dorian LaFond, International Standards Coordinator, Fruit and Vegetables Program, Specialty Crop Inspection Division, Agricultural Marketing Service, U.S. Department of Agriculture, Stop 0247, South Agriculture Building, 1400 Independence Avenue SW., Washington, DC 20250-0247, Phone: (202) 690-4944, Fax: (202) 690-1527, Email: dorian.lafond@usda.gov.

Alternate Delegate

Paul South, Ph.D., Office of Food Safety, Center for Food Safety and Applied Nutrition, U.S. Food and Drug Administration, 5100 Paint Branch Parkway, College Park, MD 20740, Phone: (240) 402-1640, Fax: (301) 436-2561, Email: paul.south@fda.hhs.gov.

Codex Committee on Sugars (Host Government—United Kingdom)

U.S. Delegate

Martin J. Stutsman, J.D., Office of Food Safety (HFS-317), Center for Food Safety and Applied Nutrition, U.S. Food and Drug Administration, 5100 Paint Branch Parkway, College Park, MD 20740-3835, Phone: (240) 402-1642, Fax: (301) 436-2651, Email: Martin.Stutsman@fda.hhs.gov.

Worldwide Commodity Codex Committees (Adjourned)

Codex Committee on Cocoa Products and Chocolate (Adjourned Sine Die) (Host Government—Switzerland)

U.S. Delegate

Michelle Smith, Ph.D., Food Technologist, Office of Plant and Dairy Foods and Beverages, Center for Food Safety and Applied Nutrition, U.S. Food and Drug Administration (HFS-306), Harvey W. Wiley Federal Building, 5100 Paint Branch Parkway, College Park, MD 20740-3835, Phone: (240) 402-2024, Fax: (301) 436-2651, Email: michelle.smith@fda.hhs.gov.

Cereals, Pulses and Legumes (Adjourned Sine Die) (Host Government—United States)

Delegate

Henry Kim, Ph.D., Supervisory Chemist Division of Plant Product Safety, Office of Plant and Dairy Foods, Center for Food Safety and Applied Nutrition, U.S. Food and Drug Administration, 5100 Paint Branch Parkway, College Park, MD 20740, Phone: (240) 402-2023, Fax: (301) 436-2651, Email: henry.kim@fda.hhs.gov.

Codex Committee on Meat Hygiene (Adjourned Sine Die) (Host Government—New Zealand)

U.S. Delegate

VACANT

Codex Committee on Milk and Milk Products (Adjourned Sine Die) (Host Government—New Zealand)

U.S. Delegate

Duane Spomer, Chief, Safety, Security and Emergency Preparedness Branch, Agricultural Marketing Service, U.S. Department of Agriculture, Room 2095, South Agriculture Building, 1400 Independence Avenue SW., Washington, DC 20250, Phone: (202) 720-1861, Fax: (202) 205-5772, Email: duane.spomer@ams.usda.gov.

Alternate Delegate

John F. Sheehan, Director, Division of Plant and Dairy Food Safety, Office of Food Safety, Center for Food Safety and Applied Nutrition, U.S. Food and Drug Administration (HFS-3 15), Harvey W. Wiley Federal Building, 5100 Paint Branch Parkway, College Park, MD 20740, Phone: (240) 402-1488, Fax: (301) 436-2632, Email: john.sheehan@fda.hhs.gov.

Codex Committee on Natural Mineral Waters (Host Government—Switzerland)

U.S. Delegate

Lauren Posnick Robin, Sc.D., Review Chemist, Office of Food Safety, Center for Food Safety and Applied Nutrition, U.S. Food and Drug Administration, Harvey W. Wiley Federal Building, 5100 Paint Branch Parkway, College Park, MD 20740-3835, Phone: (240) 402-1639, Fax: (301) 301-436-2632, Email: Lauren.Robin@fda.hhs.gov.

Codex Committee on Vegetable Proteins (Adjourned Sine Die) (Host Government—Canada)

U.S. Delegate

VACANT

Ad Hoc Intergovernmental Task Forces

Ad Hoc Intergovernmental Task Force on Animal Feeding (Host Government—Switzerland)

Delegate

Daniel G. McChesney, Ph.D., Director, Office of Surveillance & Compliance, Center for Veterinary Medicine, U.S. Food and Drug Administration, 7529 Standish Place, Rockville, MD 20855, Phone: (240) 453-6830, Fax: (240) 453-6880, Email: Daniel.McChesney@fda.hhs.gov.

Alternate

Dr. Patty Bennett Branch Chief, Risk Assessment Division, Office of Public Health Science, Food Safety and Inspection Service, U.S. Department of Agriculture, 901 Aerospace Center, Washington, DC 20250, Phone: (202) 690-6189, Fax: (202) 690-6337, Email: patty.bennett@fsis.usda.gov.

[FR Doc. 2013-14862 Filed 6-20-13; 8:45 am]

BILLING CODE 3410-DM-P